DEPARTMENT OF TRANSPORTATION

Coast Guard

46 CFR Ch. I

[USCG-1998-3473]

RIN 2115-AF61

Emergency Response Plans for Passenger Vessels

AGENCY: Coast Guard, DOT.

ACTION: Advance notice of proposed rulemaking; withdrawal.

SUMMARY: The Coast Guard is withdrawing and terminating its advance notice of proposed rulemaking concerning emergency response plans (ERPs) for U.S.-flag inspected passenger vessels operating in domestic service. It is doing this to concentrate its resources on homeland security. It expects that there will be no public disagreement with its position since there was no significant public support for this rulemaking during the comment period.

DATES: The advance notice of proposed rulemaking is withdrawn and terminated on August 26, 2002.

FOR FURTHER INFORMATION CONTACT: CDR Linda Fagan, Office of Compliance (G-MOC), U.S. Coast Guard Headquarters, telephone 202-267-2978.

SUPPLEMENTARY INFORMATION:

Background

On February 26, 1998, we published an advance notice of proposed rulemaking entitled “Emergency Response Plans for Passenger Vessels” in the Federal Register (63 FR 9916). The rulemaking concerned the development of plans for passenger vessels to respond to emergencies, such as collisions, allisions, groundings, and fires.

Withdrawal and Termination

After the terrorist attacks on the United States in September, 2001, the Coast Guard has re-evaluated all of its active rulemakings to concentrate its resources on homeland security.

The Coast Guard would like to graciously acknowledge and extend a thank you with regards to the comments received from the public during the ANPRM phase of the rulemaking. All comments are available for public review at the Web site of the Document Management System (DMS) http://dms.dot.gov/ by referring to the docket number [USCG-1998-3473]. There were a total of fifteen comments received, two of which obliquely supported the rulemaking. The supporting comments claimed that existing regulations and guidance from the Coast Guard adequately address ERPs. They go on to say that any rules or regulations must be extremely flexible and contain as few mandates as possible so all ERPs are specific to routes and vessels and allow for the development and implementation of safe and cost-effective plans. The Coast Guard's response to these recommendations is that there will almost certainly be a significant amount of new security mandates contained in the rules just now being proposed. These mandates would govern certain elements of emergency-response planning so as to entail new equipment or measures that would result in enhanced vessel security. Therefore, the withdrawal and termination of this rulemaking is justified—all the more, given the two supporting comments. These, summarized below, clearly indicate how marginal the support is for this rulemaking.

First Supporting Comment: “[E]xisting regulations and guidance from the Coast Guard adequately address emergency response plans.” If there is a rulemaking, it “should be flexible based on the type and size of vessel, passenger capacity, shore-based management structure, availability of resources and facilities * * * for search and rescue, routes, traffic[,] and operating conditions. * * * [A]ny rules or regulations must be extremely flexible and contain as few mandates as possible so all emergency response plans are route and vessel specific and allow for the development and implementation of safe and cost effective plans.” Mandated full-scale emergency exercises for moored vessels would obstruct operations, causing significant loss of revenues. Classroom training and simulated drills provide excellent tools at minimal costs.

Second Supporting Comment: “The proposed requirements, particularly for vessels not subject to OPA 90 or the ISM Code, do make sense. Compliance should be mandatory for all vessels certified to carry 100 or fewer passengers, dependent on geographical operational area, and even for moored, “ ‘nostalgic’ ” casino-boats. One big problem is lack of training for non-maritime “crew”: wait staff (waitresses and waiters, bartenders, and the like), cooks, and others in the steward's department. These “crew” members have the most contact with the public and will be depended on in an emergency, yet they have the least knowledge and training.

The thirteen negative comments received from the public are likely to be similar in nature and tone to what can be reasonably projected for the new security regulations, but the ratio of positive comments to negative should be higher given the National impetus to focus on security. The negative comments generally stated that the target population, high-consequence—low-probability vessels, does not need added regulation and that the very term “low probability” argues against further regulatory action. The comments mentioned that if there is no problem, or is no projection of a future problem, then no regulatory action is required. The likely rulemakings on the security of vessels should address practices respecting high-consequence—low-probability vessels, the precise population that ERP proposed to address.

Dated: August 18, 2002.
Paul J. Pluta,
Rear Admiral, U.S. Coast Guard, Assistant Commandant for Marine Safety, Security and Environmental Protection.

[FR Doc. 02-21688 Filed 8-23-02; 8:45 am]

BILLING CODE 4910-15-P